DEPARTMENT OF DEFENSE

Office of the Secretary

Renewal of the Ballistic Missile Defense Advisory Committee

ACTION: Notice.

SUMMARY: The Ballistic Missile Defense Advisory Committee (BMDAC) has been renewed in consonance with the public interest, and in accordance with the provisions of Public Law 92-463, the “Federal Advisory Committee Act.”

The BMDAC provides the Director, Ballistic Missile Defense Organization and the Secretary of Defense with advice and insights into the ballistic missile defense program, and makes recommendations on the program emphasis, schedule and content. The BMDAC assesses all matters relating to acquisition system development, and technology for defense against ballistic missile threat.

The Committee will continue to be composed of 15-20 leaders from government and the private sector who are recognized authorities in defense policy, acquisition and technical areas related to the ballistic missile defense program. Efforts will be made to ensure that there is a fairly balanced membership in terms of the functions to be performed and the interest groups represented.

DATES: August 17, 2000.

FOR FURTHER INFORMATION: Please contact Ms. Shirley Beeken at 703-604-0061.

Dated: September 12, 2000.
L.M. Bynum,
Alternate OSD Federal Register Liaison Officer, Department of Defense.

[FR Doc. 00-23990 Filed 9-18-00; 8:45 am]

BILLING CODE 5001-10-M